DEPARTMENT OF ENERGY

Federal Energy Regulatory Commission

Combined Notice of Filings #1

Take notice that the Commission received the following electric rate filings:

Docket Numbers: ER11-3391-005; ER11-4589-004; ER11-4591-003; ER10-2400-021; ER12-798-001; ER12-799-001.

Applicants: Nevada Solar One, LLC, Tatanka Wind Power, LLC, Blue Canyon Windpower LLC, Red Hills Wind Project, L.L.C., EcoGrove Wind, LLC, Dempsey Ridge Wind Farm, LLC.

Description: Notice of Change in Status of Dempsey Ridge Wind Farm, LLC, et al.

Filed Date: 2/2/26.

Accession Number: 20260202-5276.

Comment Date: 5 p.m. ET 2/23/26.

Docket Numbers: ER13-2143-022; ER10-3167-022; ER13-203-021; ER13-1613-022; ER24-2580-003.

Applicants: White Pine Hydro, LLC, Brookfield White Pine Hydro LLC, Black Bear SO, LLC, Black Bear Hydro Partners, LLC, Black Bear Development Holdings, LLC.

Description: Notice of Non-Material Change in Status of Black Bear Development Holdings, LLC, et al.

Filed Date: 2/2/26.

Accession Number: 20260202-5277.

Comment Date: 5 p.m. ET 2/23/26.

Docket Numbers: ER17-1329-008; ER26-210-001; ER26-211-001.

Applicants: Pierpont Energy Prepay 10, LLC, Pierpont Energy Prepay 9, LLC, J.P. Morgan Ventures Energy Corporation.

Description: Notice of Change in Status of J.P. Morgan Ventures Energy Corporation, et al.

Filed Date: 2/2/26.

Accession Number: 20260202-5280.

Comment Date: 5 p.m. ET 2/23/26.

Docket Numbers: ER19-1215-004.

Applicants: Cricket Valley Energy Center, LLC.

Description: Notice of Change in Status of Cricket Valley Energy Center, LLC.

Filed Date: 2/2/26.

Accession Number: 20260202-5279.

Comment Date: 5 p.m. ET 2/23/26.

Docket Numbers: ER19-2231-013; ER19-2232-013.

Applicants: Chief Keystone Power II, LLC, Chief Conemaugh Power II, LLC.

Description: Notice of Change in Status of Chief Conemaugh Power II, LLC, et al.

Filed Date: 2/2/26.

Accession Number: 20260202-5273.

Comment Date: 5 p.m. ET 2/23/26.

Docket Numbers: ER21-1755-018; ER23-1642-015; ER24-280-007; ER14-2500-026.

Applicants: Newark Energy Center, LLC, Hartree-Meadowlands Newark, LLC, NE Renewable Power, LLC, Hartree Partners, LP.

Description: Notice of Change in Status of Hartree Partners, LP, et al.

Filed Date: 2/2/26.

Accession Number: 20260202-5278.

Comment Date: 5 p.m. ET 2/23/26.

Docket Numbers: ER23-66-003; ER25-3399-001; ER20-2202-004; ER10-2834-009; ER23-1499-001; ER23-1500-002; ER23-1494-001; ER23-1493-001; ER23-1501-002; ER23-1502-002; ER24-832-001.

Applicants: RWE Trading Americas Inc., RWE Supply & Trading US, LLC, RWE Supply & Trading Americas, LLC, RWE Clean Energy Wholesale Services, Inc., RWE Clean Energy Solutions, Inc., RWE Clean Energy QSE, LLC, RWE Clean Energy O&M, LLC, Munnsville Wind Farm, LLC, Cassadaga Wind LLC, Baron Winds II LLC, Baron Winds LLC.

Description: Notice of Non-Material Change in Status of RWE Clean Energy O&M, LLC, et al.

Filed Date: 2/2/26.

Accession Number: 20260202-5282.

Comment Date: 5 p.m. ET 2/23/26.

Docket Numbers: ER25-1720-004; ER10-1838-016; ER19-2231-014; ER19-2232-014; ER18-552-011; ER24-762-008; ER10-1967-017; ER10-1968-016; ER22-2188-008; ER18-1150-014; ER22-1402-011; ER22-1404-011; ER22-2713-009; ER10-1990-016; ER18-1821-016; ER10-1993-016.

Applicants: Waymart Wind Farm, L.P., Walleye Power, LLC, Somerset Windpower, LLC, Parkway Generation Sewaren Urban Renewal Entity LLC, Parkway Generation Operating LLC, Parkway Generation Keys Energy Center LLC, Trishe Wind Ohio, LLC, Northwest Ohio IA, LLC, Mill Run Windpower, LLC, Meyersdale Windpower LLC, Elevate Renewables F7, LLC, Clean Energy Future-Lordstown, LLC, Chief Keystone Power II, LLC, Chief Conemaugh Power II, LLC, Backbone Mountain Windpower, LLC, Alpha Generation, LLC.

Description: Notice of Change in Status of Alpha Generation, LLC, et al.

Filed Date: 2/2/26.

Accession Number: 20260202-5283.

Comment Date: 5 p.m. ET 2/23/26.

Docket Numbers: ER25-2682-001.

Applicants: FL Solar 8, LLC.

Description: Notice of Change in Status of FL Solar 8, LLC.

Filed Date: 2/2/26.

Accession Number: 20260202-5281.

Comment Date: 5 p.m. ET 2/23/26.

Docket Numbers: ER25-3111-003; ER25-704-007; ER25-1744-005; ER19-2373-021; ER10-2005-040; ER25-3121-003; ER23-568-012; ER22-2634-013; ER10-1841-039; ER25-1962-004; ER23-2694-010; ER20-1769-017; ER20-1987-021; ER19-2461-022; ER20-122-020; ER19-987-026; ER19-1003-026; ER21-1320-016; ER26-43-001; ER25-2210-004; ER25-1545-005; ER25-2797-003; ER25-3119-003; ER19-2437-022; ER19-1393-026; ER19-1394-026; ER26-68-001; ER25-1338-007; ER15-1933-001; ER10-1907-038; ER10-1918-039; ER25-3112-003; ER25-1339-006; ER10-1950-039; ER25-3118-003; ER25-3114-003; ER25-3113-003; ER25-705-005; ER25-2252-004; ER19-2398-024; ER26-45-001; ER21-1953-018; ER18-2246-028.

Applicants: Heartland Divide Wind Project, LLC, Heartland Divide Wind II, LLC, Heartland Divide Wind Energy, LLC, Hancock County Wind, LLC, Greer Solar, LLC, Green River Solar, LLC, Green Mallard Solar, LLC, Greenlee Solar, LLC, Garden Wind Energy, LLC, Garden Wind, LLC, Forgeview Solar, LLC, Forest Trace Solar, LLC, FPL Energy North Dakota Wind II, LLC, FPL Energy North Dakota Wind, LLC, Florida Power & Light Company, Flat Fork Solar, LLC, Flat Fork Energy Storage, LLC, Endeavor Wind II, LLC, Endeavor Wind I, LLC, Emmons-Logan Wind, LLC, Emmons-Logan Energy Storage, LLC, Dodge County Wind, LLC, DG VDH BESS, LLC, Delta Bobcat Solar, LLC, Delta Bobcat Energy Storage, LLC, Crystal Lake Wind Energy III, LLC, Crystal Lake Wind Energy II, LLC, Crystal Lake Wind Energy I, LLC, Crowned Ridge Interconnection, LLC, Crowned Ridge Wind, LLC, Cerro Gordo Wind, LLC, Chicot Solar, LLC, Cereal City Solar, LLC, Century Oaks Energy Storage, LLC, Butler Ridge Wind Energy Center, LLC, Buffalo Ridge Wind, LLC, Big Cypress Solar, LLC, Benton Solar, LLC, Ashtabula Wind II, LLC, Ashtabula Wind I, LLC, Appleseed Solar, LLC, Amite Solar, LLC, Amite Energy Storage, LLC.

Description: Notice of Change in Status of Amite Energy Storage, LLC, et al. Part 1 of 2.

Filed Date: 2/2/26.

Accession Number: 20260202-5284.

Comment Date: 5 p.m. ET 2/23/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 17, 2026.
Carlos D. Clay,
Deputy Secretary.

[FR Doc. 2026-03397 Filed 2-19-26; 8:45 am]

BILLING CODE 6717-01-P